DEPARTMENT OF TRANSPORTATION

Federal Aviation Administration

Eleventh Tenth Meeting: RTCA Special Committee 206/EUROCAE WG 76 Plenary

AGENCY: Federal Aviation Administration (FAA), DOT.

ACTION: Notice of RTCA Special Committee 206 meeting.

SUMMARY: The FAA is issuing this notice to advise the public of a meeting of RTCA Special Committee 206: Aeronautical Information Services Data Link.

DATES: The meeting will be held December 3-7, 2007 from 9 a.m. to 5 p.m.

ADDRESSES: The meeting will be held at EUROCONTROL, Rue de la Fusee, 96, B-1130 Brussels, Belgium.

FOR FURTHER INFORMATION CONTACT: (1) RTCA Secretariat, 1828 L Street, NW., Suite 805, Washington, DC 20036-5133; telephone (202) 833-9339; fax (202) 833-9434; Web site http://www.rtca.org; (2) Hosted by LFV Group-Swedish Airports and Air Navigation Services; Onsite Contact: Ana Paula Frangolho telephone +32-2-729-4702; fax +32-2-9008.

SUPPLEMENTARY INFORMATION: Pursuant to section 10(a)(2) of the Federal Advisory Committee Act (Pub. L. 92-463, 5 U.S.C., Appendix 2), notice is hereby given for a Special Committee 206 meeting/EUROCE WG 76. The agenda will include:

December 3

• Opening Plenary (Chairman's Remarks and Introductions, Review and Approve, Discussion, Meeting Agenda and Minutes, Action Item Review).

• Presentation TBD.

Begin effort on SPR and INTEROP.

December 4

• Subgroup 1 Subgroup 2 Meetings.

December 5

• Subgroup 1 and Subgroup 2 Meetings.

December 6

• Subgroup 1 and Subgroup 2 Meetings.

December 7

• Subgroup 1 and Subgroup 2 Meetings.

• Plenary Session.

• Closing Session (Other Business, Date and Place of Next Meeting, Closing Remarks, Adjourn).

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on November 13, 2007.
Francisco Estrada C.,
RTCA Advisory Committee.

[FR Doc. 07-5763 Filed 11-20-07; 8:45 am]

BILLING CODE 4910-13-M